DEPARTMENT OF TRANSPORTATION

Federal Highway Administration

Notice of Final Federal Agency Actions on Transportation Project in Wisconsin State

AGENCY: Federal Highway Administration (FHWA), Department of Transportation (DOT).

ACTION: Notice of limitation on claims for judicial review.

SUMMARY: This notice announces actions taken by FHWA and other Federal agencies, on behalf of Wisconsin Department of Transportation (WisDOT), that are final. The actions relate to a proposed highway project United States Highway 51 (US 51), Wisconsin State Highway (WIS) 30 to Interstate (I) 39/90/94 in Dane County, Wisconsin. Those actions grant licenses, permits, and approvals for the project.

DATES: By this notice, FHWA is advising the public of final agency actions subject to 23 U.S.C. 139(l). A claim seeking judicial review of the Federal agency actions on the listed highway project will be barred unless the claim is filed on or before February 2, 2026. If the Federal law that authorizes judicial review of a claim provides a time period of less than 150 days for filing such a claim, then that shorter time period still applies.

FOR FURTHER INFORMATION CONTACT:

For FHWA: Lisa Hemesath, Environmental Protection Specialist, FHWA-Wisconsin Division, 525 Junction Road, Suite 8000, Madison, WI 53717; telephone: (608) 829-7503; email: lisa.hemesath@dot.gov.

For WisDOT: Jeff Berens, PE, Project Manager, WisDOT Southwest Region, 2101 Wright Street Madison, WI 53704; telephone: (608) 245-2656; email: jeff.berens@dot.wi.gov.

SUPPLEMENTARY INFORMATION: Notice is hereby given that FHWA has taken final agency actions subject to 23 U.S.C. 139(l)(1) by issuing approvals for the following Highway Project related to the US 51 (Stoughton Road) North Study in Dane County, Wisconsin. FHWA, in cooperation with WisDOT, proposes reconstruction of approximately 5.5 miles of US 51 from WIS 30 to I-39/90/94 in Dane County, Wisconsin.

The project includes reconstructing approximately 5.5 miles of US 51 and one interchange (WIS 30), as well as improving 11 intersections. From WIS 30 to US 151, US 51 will be reconstructed to a 6-lane urban section with a shared use path on the east side of the highway. From US 151 to Anderson Street, the highway will be reconstructed into a 5-to-6 lane urban section with a shared-use path on both sides. From Anderson Street to Kinsman Boulevard, US 51 will be reconstructed to a 4-lane urban section with a shared-use path on the east side. From Kinsman Boulevard to Pierstorff Street, US 51 will be reconstructed to a 4-lane urban section. From Pierstorff Street to Hoepker Road, the highway will be reconstructed to a 4-lane rural section including horizontal curve correction. From Hoepker Road to south of I-39/90/94, US 51 will be reconstructed into a 4-lane rural section with a shared-use path on the east side of the highway.

The project will also improve existing conditions at the following 11 intersections: Commercial Avenue/Lexington Avenue, US 151, Anderson Street, Kinsman Boulevard, Pierstorff Street, Rieder Road, Amelia Earhart Drive, Hanson Road, Hoepker Road, Acker Road, and County CV/Anderson Road.

Bicycle and pedestrian accommodations will also be improved throughout the corridor.

The actions taken by the Federal agencies in this project, and laws under which such actions were taken, are described in the Environmental Assessment (EA)/Finding of No Significant Impact (FONSI), approved on July 21, 2025, and in other documents in the FHWA or WisDOT project records. The EA/FONSI and other public records are available by contacting FHWA or WisDOT at the addresses provided above. The EA/FONSI can also be viewed on the project website at: https://wisconsindot.gov/Pages/projects/by-region/sw/us51-corridor/northenviron.aspx

This notice applies to all Federal Agency decisions as of the issuance date of this notice and all laws under which such actions were taken, including but not limited to:

1. General: National Environmental Policy Act (NEPA) (42 U.S.C 4321-4351); Federal-Aid Highway Act (FAHA) (23 U.S.C. 109 as amended by the Fast Act section 1404(a) [Pub. L. 114-94] and 23 U.S.C. 128).

2. Air: Clean Air Act (42 U.S.C. 7401-7671(q)) (Transportation Conformity, 40 CFR part 93).

3. Noise: Procedures for Abatement of Highway Traffic Noise and Construction Noise (23 U.S.C. 109(h), 109(i); 42 U.S.C. 4331, 4332; sec. 339(b), Pub. L. 104-59, 109 Stat. 568, 605; 23 CFR part 772).

4. Land: Section 4(f) of the Department of Transportation Act of 1966 (23 U.S.C. 138 and 49 U.S.C. 303; 23 CFR part 774) and section 6(f) of the Land and Water Conservation Act as amended (54 U.S.C. 200305(f)(3), Pub. L. 88-578; 36 CFR part 59).

5. Historic and Cultural Resources: Section 106 of the National Historic Preservation Act of 1966, as amended (54 U.S.C. 306108; 36 CFR part 800); Archeological and Historic Preservation Act of 1974 (54 U.S.C. 312501-312508).

6. Wildlife: Endangered Species Act of 1973 (16 U.S.C. 1531-1544 and section 1536); Fish and Wildlife Coordination Act (16 U.S.C. 661-667(e)); Migratory Bird Treaty Act (16 U.S.C. 703-712).

7. Social and Economic: Americans with Disabilities Act (42 U.S.C. 12101); Uniform Relocation Assistance and Real Property Acquisition Act of 1970 (42 U.S.C. 4601 et seq., as amended by the Uniform Relocation Act Amendments of 1987 [Pub. L. 100-17]).

8. Wetlands and Water Resources: Clean Water Act (section 404, section 408, section 401, section 319) (33 U.S.C. 1251 et seq.); Safe Drinking Water Act (42 U.S.C. 300f et seq.).

9. Floodplains: National Highway Performance Program (23 U.S.C. 119).

10. Hazardous Materials: Comprehensive Environmental Response, Compensation, and Liability Act of 1980 (CERCLA) as amended (42 U.S.C. 9601 et seq.); Superfund Amendments and Reauthorization Act of 1986 (Pub. L. 99-499); Resource Conservation and Recovery Act (42 U.S.C. 6901 et seq.).

11. Executive Orders: E.O. 11990, Protection of Wetlands; E.O. 11988, Floodplain Management, as amended by E.O. 12148 and E.O. 13690; E.O. 13175, Consultation and Coordination with Indian Tribal Governments; E.O. 13112, Invasive Species.

(Catalog of Federal Domestic Assistance Program Number 20.205, Highway Planning and Construction. The regulations implementing Executive Order 12372 regarding intergovernmental consultation on Federal programs and activities apply to this program.)

(Authority: 23 U.S.C. 139(l)(1).)

Issued on: September 2, 2025.
Linda Swann,
FHWA Acting Division Administrator, Madison, WI.

[FR Doc. 2025-16936 Filed 9-3-25; 8:45 am]

BILLING CODE 4910-RY-P